DEPARTMENT OF JUSTICE

Immigration and Naturalization Service

[INS No. 2221-02]

Meeting on Proposed Safe Third Country Agreement With Canada for Asylum Seekers

AGENCY: Immigration and Naturalization Service, Justice.

ACTION: Notice of meeting.

SUMMARY: The Immigration and Naturalization Service (Service) and the Department of State (DOS) are engaged in formal negotiations with the Canadian government to enter into an agreement that would limit the access of asylum seekers, under appropriate circumstances, to the system of only one of the two countries (safe third-country agreement). The purpose of this notice is to announce that the Service and the DOS are holding a meeting to solicit views from the public concerning the terms of a proposed safe third-country agreement.

DATES and TIMES: The meeting will be held on Thursday, August 1, 2002, from 1 p.m. to 4 p.m.

ADDRESSES: The meeting will be held at the Immigration and Naturalization Service Headquarters, 425 I Street, NW, Washington, DC, 20536, Shaughnessy Conference Room, Sixth Floor.

FOR FURTHER INFORMATION CONTACT: Georgia Papas, Office of International Affairs, Asylum Division, Immigration and Naturalization Service, 111 Massachusetts Avenue, NW, Washington, DC. 20536; telephone (202) 514-6029; fax (202) 305-0827; e-mail Georgia.Papas@usdoj.gov.

SUPPLEMENTARY INFORMATION:

What Is the Purpose of This Meeting?

The purpose of this meeting is to solicit the views of non-governmental organizations and other interested members of the public regarding the terms of a safe third-country agreement between the United States and Canada.

What Would Such an Agreement Do?

This agreement, when finalized, will limit asylum seekers' access, in certain circumstances, to the asylum system of the last of the two countries where they have been present.

What Legal Authority Permits the United States To Enter Into Such an Agreement?

The United States asylum laws contain provisions that make certain aliens ineligible to apply for asylum if they can be removed to a prescribed “safe third country.” Specifically, section 208(a)(1) of the Immigration and Nationality Act (Act) permits any alien who arrives in the United States to apply for asylum. However, section 208(a)(2)(A) provides that such an alien may not apply for asylum in the United States if the Attorney General determines that the person can be removed to a country pursuant to a bilateral or multilateral agreement (other than the country of the alien's nationality or, in the case of an alien having no nationality, the country of the alien's last habitual residence) where he or she would not face persecution and would have access to a full and fair procedure for determining a claim to asylum or equivalent temporary protection.

What Recent Governmental Actions Support Pursuing This Agreement?

On December 3, 2001, Attorney General John Ashcroft signed an accord with then Canadian Minister of Citizenship and Immigration, Elinor Caplan, and the Solicitor General, Lawrence MacAuley, agreeing “to begin discussions on a safe third-country exception to the right to apply for asylum.” The accord provided, “Such an arrangement would limit the access of asylum seekers, under appropriate circumstances, to the system of only one of the two countries.” Additionally, the Office of Homeland Security's Action Plan for Creating a Secure and Smart Border includes the negotiation of a safe third-country agreement as 1 of 30 shared initiatives between the United States and Canada.

Where Can the Public Obtain a Copy of the Proposed Agreement Prior to the August 1, 2002, Meeting?

Beginning on July 15, 2002, the public will be able to obtain a copy of the proposed agreement on the Service's Internet Web site at: http://www.ins.usdoj.gov.

What Is the Agenda for This Meeting?

There will be an overview of the terms of the draft agreement and an opportunity for public comment.

Who Can Attend This Meeting?

The meeting is open to the public, but advance notice of attendance is requested to ensure adequate seating and to arrange for appropriate clearance into the building. Persons planning to attend should notify the contact person at least 5 days prior to the meeting. Members of the public may submit written statements at any time before the meeting, or promptly afterward, to the contact person for consideration by the Service and the DOS.

Dated: July 5, 2002.
James W. Ziglar,
Commissioner, Immigration and Naturalization Service.

[FR Doc. 02-17609 Filed 7-9-02; 4:03 pm]

BILLING CODE 4410-10-U